DEPARTMENT OF COMMERCE

International Trade Administration

[A-570-929]

Small Diameter Graphite Electrodes From the People's Republic of China: Final Results of Expedited Second Sunset Review of the Antidumping Duty Order

AGENCY: Enforcement and Compliance, International Trade Administration, Department of Commerce.

SUMMARY: As a result of this sunset review, the Department of Commerce (Commerce) finds that revocation of the antidumping duty (AD) order on small diameter graphite electrodes from the People's Republic of China (China) would be likely to lead to continuation or recurrence of dumping. The magnitude of the dumping margins likely to prevail are indicated in the “Final Results of Sunset Review” section of this notice.

DATES: Applicable August 27, 2019.

FOR FURTHER INFORMATION CONTACT: Jinny Ahn, AD/CVD Operations, Office VIII, Enforcement and Compliance, International Trade Administration, U.S. Department of Commerce, 1401 Constitution Avenue NW, Washington, DC 20230; telephone: (202) 482-0339.

SUPPLEMENTARY INFORMATION:

Background

On February 26, 2009, Commerce issued an AD order on small diameter graphite electrodes from China.¹

¹ See Antidumping Duty Order: Small Diameter Graphite Electrodes from the People's Republic of China, 74 FR 8775 (February 26, 2009) (Order).

On June 23, 2014, Commerce published the notice of continuation of the Order.² On May 1, 2019, Commerce published the notice of initiation of the second sunset review of the Order.³

² See Small Diameter Graphite Electrodes From the People's Republic of China: Continuation of Antidumping Duty Order, 79 FR 35523 (June 23, 2014).

³ See Initiation of Five-Year (Sunset) Review, 84 FR 18477 (May 1, 2019).

On May 16, 2019, Commerce received notice of intent to participate from Tokai Carbon GE LLC (Tokai Carbon), within the deadline specified in 19 CFR 351.218(d)(1)(i).⁴ Tokai Carbon, a domestic producer of the subject merchandise, claimed interested party status under section 771(9)(C) of the Tariff Act of 1930, as amended (the Act).⁵ On May 31, 2019, Commerce received adequate substantive responses from Tokai Carbon within the 30-day period specified in 19 CFR 351.218(d)(3)(i).⁶ We received no substantive responses from any respondent interested parties. As a result, pursuant to section 751(c)(3)(B) of the Act and 19 CFR 351.218(e)(1)(ii)(C)(2), Commerce conducted an expedited (120-day) sunset review of the Order.

⁴ See Tokai Carbon's Letter, “Five-Year (2nd Sunset) Review of Antidumping Duty Order—Notice of Intent to Participate,” dated May 16, 2019.

⁵ Id.

⁶ See Tokai Carbon's Letter, “Five-Year (2nd Sunset) Review of Antidumping Duty Order—Domestic Industry's Substantive Response,” dated May 31, 2019.

Scope of the Order

The merchandise covered by the Order includes all small diameter graphite electrodes of any length, whether or not finished, of a kind used in furnaces, with a nominal or actual diameter of 400 millimeters (16 inches) or less, and whether or not attached to a graphite pin joining system or any other type of joining system or hardware. The merchandise covered by the Order also includes graphite pin joining systems for small diameter graphite electrodes, of any length, whether or not finished, of a kind used in furnaces, and whether or not the graphite pin joining system is attached to, sold with, or sold separately from, the small diameter graphite electrodes. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to the Order are currently classified under the Harmonized Tariff Schedule of the United States (HTSUS) subheadings 8545.11.0010, 3801.10, and 8545.11.0020. The HTSUS numbers are provided for convenience and customs purposes, but the written description of the scope is dispositive.

Analysis of Comments Received

All issues raised for the final results of this sunset review are listed in the appendix to this notice and addressed in the Issues and Decision Memorandum.⁷ The issues discussed in the Issues and Decision Memorandum include the likelihood of the continuation or recurrence of dumping and the magnitude of the margins of dumping likely to prevail. The Issues and Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Issues and Decision Memorandum can be accessed directly on the internet at http://enforcement.trade.gov/frn/. The signed and electronic versions of the Issues and Decision Memorandum are identical in content.

⁷ See Memorandum, “Issues and Decision Memorandum for the Expedited Second Sunset Review of the Antidumping Duty Order on Small Diameter Graphite Electrodes from the People's Republic of China,” dated concurrently with, and hereby adopted by, this notice (Issues and Decision Memorandum).

Final Results of Sunset Review

Pursuant to sections 751(c)(1) and 752(c)(1) and (3) of the Act, Commerce determines that revocation of the Order on small diameter graphite electrodes from China would be likely to lead to continuation or recurrence of dumping, and that the magnitude of the margin of dumping likely to prevail if the Order is revoked would be up to 159.64 percent.⁸

⁸ Id.

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results of this expedited sunset review in accordance with sections 751(c), 752(c), and 777(i) of the Act, and 19 CFR 351.218.

Dated: August 20, 2019.
Jeffrey I. Kessler,
Assistant Secretary for Enforcement and Compliance.

Appendix

List of Issues Addressed in the Issues and Decision Memorandum

I. Summary

II. Background

III. Scope of the Order

IV. History of the Proceeding

V. Legal Framework

VI. Discussion of the Issues

1. Likelihood of Continuation or Recurrence of Dumping

2. Magnitude of the Margin of Dumping Likely to Prevail

VII. Final Results of Expedited Sunset Review

VIII. Recommendation

[FR Doc. 2019-18439 Filed 8-26-19; 8:45 am]

BILLING CODE 3510-DS-P